GENERAL ACCOUNTING OFFICE

Advisory Council on Government Auditing Standards.

AGENCY: General Accounting Office.

ACTION: Notice of document availability.

SUMMARY: On January 31, 2002, the U.S. General Accounting Office (GAO), on the recommendation of the Advisory Council on Government Auditing Standards, issued an exposure draft of proposed revisions to Government Auditing Standards (also known as the Yellow Book) (GAO-02-340G). The changes propose revision throughout the entire set of standards except for the second general standard, independence, which was revised separately. The proposed revisions fall into three categories: GAGAS framework, consistent application of the standards where applicable to the various types of audits, and strengthening or streamlining the standards.

DATES: Comments are accepted through April 30, 2002.

ADDRESSES: A copy of the exposure draft can be obtained on the Internet on GAO's Home Page (www.gao.gov/govaud/ybk01.htm). Additional copies of these proposed revisions can be obtained from the U.S. General Accounting Office, Room 1100, 700 4th Street, NW., Washington, DC 20548, or by calling (202) 512-6000.

FOR FURTHER INFORMATION CONTACT: Marcia Buchanan, Assistant Director, Government Auditing Standards, 202-512-9321.

SUPPLEMENTARY INFORMATION: Since GAO is still experiencing delays in mail delivery, it would be preferable if you sent your comments via e-mail to yellowbook@gao.gov. To ensure that your comments are considered by the Advisory Council in their deliberations, please submit them by April 30, 2002. If you need to use the mail, it would be helpful if you sent your comments both in writing and on diskette (in Word or ASCII format). Please sent any mail to the following address: Government Auditing Standards Comments, U.S. General Accounting Office, Room 5X16 (FMA), 441 G Street, NW., Washington, DC 20548. (31 U.S.C. 7501-7507)

Marcia B. Buchanan,
Assistant Director, Financial Management and Assurance.

[FR Doc. 02-3728 Filed 2-14-02; 8:45 am]

BILLING CODE 1610-02-M